INTERNATIONAL TRADE COMMISSION

[Docket No 2958]

Certain Portable Electronic Communications Devices, Including Mobile Phones and Components Thereof; Correction to Notice of Receipt of Complaint; Solicitation of Comments Relating to the Public Interest

AGENCY: U.S. International Trade Commission.

ACTION: Notice.

SUMMARY: Correction is made to named-respondent HTC Corporation of Taiwan.

SUPPLEMENTARY INFORMATION: The U.S. International Trade Commission published a notice (78 FR 12892, May 31, 2013) of receipt of complaint entitled Certain Portable Electronic Communications Devices, Including Mobile Phones and Components Thereof, DN 2958; the Commission solicited comments on any public interest issues raised by the complaint or complainant's filing under section 210.8(b) of the Commission's Rules of Practice and Procedure (19 CFR 210.8(b)). The complaint named as respondents HTC Corporation of Taiwan and HTC America, Inc. of Bellevue, WA.

Issued: June 3, 2013.
By order of the Commission.
William R. Bishop,
Supervisory Hearings and Information Officer.

[FR Doc. 2013-13385 Filed 6-5-13; 8:45 am]

BILLING CODE 7020-02-P